DEPARTMENT OF ENERGY

Federal Energy Regulatory Commission

Combined Notice of Filings

Take notice that the Commission has received the following Natural Gas Pipeline Rate and Refund Report filings:

Docket Numbers: RP14-81-000.

Applicants: Questar Pipeline Company.

Description: Questar Pipeline Company submits tariff filing per 154.204: NAESB Copyright to be effective 11/30/2013.

Filed Date: 10/30/13.

Accession Number: 20131030-5160.

Comments Due: 5 p.m. ET 11/12/13.

Docket Numbers: RP14-82-000.

Applicants: Questar Southern Trails Pipeline Company.

Description: Questar Southern Trails Pipeline Company submits tariff filing per 154.204: NAESB Copyright to be effective 11/30/2013.

Filed Date: 10/30/13.

Accession Number: 20131030-5164.

Comments Due: 5 p.m. ET 11/12/13.

Docket Numbers: RP14-83-000.

Applicants: Questar Overthrust Pipeline Company.

Description: Questar Overthrust Pipeline Company submits tariff filing per 154.204: NAESB Copyright to be effective 11/30/2013.

Filed Date: 10/30/13.

Accession Number: 20131030-5165.

Comments Due: 5 p.m. ET 11/12/13.

Docket Numbers: RP14-84-000.

Applicants: White River Hub, LLC.

Description: White River Hub, LLC submits tariff filing per 154.204: NAESB Copyright to be effective 11/30/2013.

Filed Date: 10/30/13.

Accession Number: 20131030-5166.

Comments Due: 5 p.m. ET 11/12/13.

Docket Numbers: RP14-85-000.

Applicants: Midwestern Gas Transmission Company.

Description: Midwestern Gas Transmission Company's 2012-2013 Gas Sales and Purchases Report.

Filed Date: 10/30/13.

Accession Number: 20131030-5172.

Comments Due: 5 p.m. ET 11/12/13.

Docket Numbers: RP14-86-000.

Applicants: Viking Gas Transmission Company.

Description: Viking Gas Transmission Company's 2012-2013 Gas Sales and Purchases Report.

Filed Date: 10/30/13.

Accession Number: 20131030-5173.

Comments Due: 5 p.m. ET 11/12/13.

Docket Numbers: RP14-87-000.

Applicants: Equitrans, L.P.

Description: Equitrans, L.P. submits tariff filing per 154.601: Negotiated Rate Service Agreement Rice Drilling B, to be effective 11/1/2013.

Filed Date: 10/31/13.

Accession Number: 20131031-5017.

Comments Due: 5 p.m. ET 11/12/13.

Docket Numbers: RP14-88-000.

Applicants: Southern Union Company.

Description: Petition for Commission Approval of Request for Temporary Waivers of Capacity Release Regulations and Actions Necessary to Permit the Transfer of Transportation and Storage Contracts and Request for Expedited Action.

Filed Date: 10/30/13.

Accession Number: 20131030-5191.

Comments Due: 5 p.m. ET 11/6/13.

Docket Numbers: RP14-89-000.

Applicants: Trunkline Gas Company, LLC.

Description: Trunkline Gas Company, LLC submits tariff filing per 154.203: Annual Interruptible Storage Revenue Credit.

Filed Date: 10/31/13.

Accession Number: 20131031-5032.

Comments Due: 5 p.m. ET 11/12/13.

Docket Numbers: RP14-90-000.

Applicants: Texas Gas Transmission, LLC.

Description: Texas Gas Transmission, LLC submits tariff filing per 154.204: Update Rate Schedule TAPS to be effective 12/1/2013.

Filed Date: 10/31/13.

Accession Number: 20131031-5034.

Comments Due: 5 p.m. ET 11/12/13.

Docket Numbers: RP14-91-000.

Applicants: Texas Gas Transmission, LLC.

Description: Texas Gas Transmission, LLC submits tariff filing per 154.204: Negotiated Rate Agmt Filing (Atmos 120) to be effective 11/1/2013.

Filed Date: 10/31/13.

Accession Number: 20131031-5036.

Comments Due: 5 p.m. ET 11/12/13.

Docket Numbers: RP14-92-000.

Applicants: Texas Gas Transmission, LLC.

Description: Texas Gas Transmission, LLC submits tariff filing per 154.204: Neg Rate Agmt filing (NextEra 33367) to be effective 11/1/2013.

Filed Date: 10/31/13.

Accession Number: 20131031-5037.

Comments Due: 5 p.m. ET 11/12/13.

Docket Numbers: RP14-93-000.

Applicants: Gulf Crossing Pipeline Company LLC.

Description: Gulf Crossing Pipeline Company LLC submits tariff filing per 154.204: Negotiated Rate Agreement (BP Energy 1076) to be effective 11/1/2013.

Filed Date: 10/31/13.

Accession Number: 20131031-5038.

Comments Due: 5 p.m. ET 11/12/13.

Docket Numbers: RP14-94-000.

Applicants: Northern Border Pipeline Company.

Description: Northern Border Pipeline Company submits tariff filing per 154.204: Continental Resources Agreement to be effective 11/1/2013.

Filed Date: 10/31/13.

Accession Number: 20131031-5039.

Comments Due: 5 p.m. ET 11/12/13.

Docket Numbers: RP14-95-000.

Applicants: Gulf Crossing Pipeline Company LLC.

Description: Gulf Crossing Pipeline Company LLC submits tariff filing per 154.204: Amendment to Neg Rate Agmt (BP 37-12) to be effective 10/31/2013.

Filed Date: 10/31/13.

Accession Number: 20131031-5041.

Comments Due: 5 p.m. ET 11/12/13.

Docket Numbers: RP14-96-000.

Applicants: Gulf Crossing Pipeline Company LLC.

Description: Gulf Crossing Pipeline Company LLC submits tariff filing per 154.204: Cap Rel Neg Rate Agmt (Vanguard 598, 597 to Tenaska 1148, 1149) to be effective 11/1/2013.

Filed Date: 10/31/13.

Accession Number: 20131031-5042.

Comments Due: 5 p.m. ET 11/12/13.

Docket Numbers: RP14-97-000.

Applicants: Gulf South Pipeline Company, LP.

Description: Gulf South Pipeline Company, LP submits tariff filing per 154.204: Cap Rel Neg Rate Agmt (Chesapeake 34684 to BP 41371 and Tenaska 41341) to be effective 11/1/2013.

Filed Date: 10/31/13.

Accession Number: 20131031-5045.

Comments Due: 5 p.m. ET 11/12/13.

Docket Numbers: RP14-98-000.

Applicants: Gulf South Pipeline Company, LP.

Description: Gulf South Pipeline Company, LP submits tariff filing per 154.204: Amendment To Neg Rate Agmt (Sequent 34693-16) to be effective 11/1/2013.

Filed Date: 10/31/13.

Accession Number: 20131031-5046.

Comments Due: 5 p.m. ET 11/12/13.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 31, 2013.
Nathaniel J. Davis, Sr.,
Deputy Secretary.

[FR Doc. 2013-26968 Filed 11-8-13; 8:45 am]

BILLING CODE 6717-01-P